DEPARTMENT OF ENERGY

Western Area Power Administration

Loveland Area Projects—Rate Order No. WAPA-141

AGENCY: Western Area Power Administration, DOE.

ACTION: Notice of rate order extending transmission and ancillary services formula rates.

SUMMARY: This action is being taken to extend the existing Loveland Area Projects (LAP) transmission and ancillary services formula rates through February 28, 2011. The existing LAP transmission and ancillary services formula rates will expire February 28, 2009, with the exception of the Regulation and Frequency Response service rate which expires May 31, 2011.

FOR FURTHER INFORMATION CONTACT: Mr. James D. Keselburg, Regional Manager, Rocky Mountain Region, Western Area Power Administration, P.O. Box 3700, Loveland, CO 80539-3003, (970) 461-7201, e-mail keselbrg@wapa.gov, or Ms. Sheila Cook, Rates Manager, Rocky Mountain Region, Western Area Power Administration, P.O. Box 3700, Loveland, CO 80539-3003, (970) 461-7211, e-mail scook@wapa.gov.

SUPPLEMENTARY INFORMATION: By Delegation Order No. 00-037.00, effective December 6, 2001, the Secretary of Energy delegated: (1) The authority to develop power and transmission rates to the Administrator of the Western Area Power Administration (Western); (2) the authority to confirm, approve, and place such rates into effect on an interim basis to the Deputy Secretary of Energy; and (3) the authority to confirm, approve, and place into effect on a final basis, to remand, or to disapprove such rates to the Federal Energy Regulatory Commission (FERC).

The existing formula rates approved under Rate Order No. WAPA-106 ¹ became effective on March 1, 2004, and are approved through February 28, 2009. Subsequently, Rate Schedule L-AS3, Regulation and Frequency Response, was revised and approved under Rate Order No. WAPA-118 and became effective June 1, 2006, and is approved through May 31, 2011.² Western is proposing to extend the existing LAP transmission and ancillary services formula rates pursuant to 10 CFR part 903.23 (b). The existing LAP rate formula methodology collects annual revenue sufficient to recover annual expenses, including interest and capital requirements, thus ensuring repayment of the project within the cost recovery criteria set forth in DOE order RA 6120.2. Western is seeking this extension to provide more time for the evaluation of new rate requirements for transmission and ancillary services mandated under FERC Order 890 and the evaluation of adjustments to the formulae for ancillary services. For these reasons, Western is extending the existing rate formulae for transmission and ancillary services through February 28, 2011.

¹ WAPA-106 was approved by FERC on a final basis on January 31, 2005, in Docket No. EF045182-000 (110 FERC ¶ 62,084).

² WAPA-118 was approved by FERC on a final basis on November 17, 2006, in Docket No. EF065182000 (117 FERC ¶ 62,163).

Western did not have a consultation and comment period and did not hold public information and comment forums, in accordance with 10 CFR part 903.23(b). Following review of Western's proposal with the DOE, I hereby approve Rate Order No. WAPA-141 which extends the existing LAP transmission and ancillary services rate schedules L-NT1, L-FPT1, L-NFPT1, L-AS1, L-AS2, L-AS4, L-AS5, L-AS6 and L-AS7 through February 28, 2011.

Dated: August 12, 2008.
Jeff Kupfer,
Acting Deputy Secretary.

Department of Energy

Deputy Secretary

Rate Order No. WAPA-141.

In the Matter of: Western Area Power Administration Rate Extension for Loveland Area Projects Transmission and Ancillary Services Formula Rates.

Order Confirming and Approving an Extension of the Loveland Area Projects Transmission and Ancillary Services Formula Rates

The Loveland Area Projects (LAP) transmission and ancillary services rate formulae were established following section 302(a) of the Department of Energy (DOE) Organization Act (42 U.S.C. 7152). This act transferred to and vested in the Secretary of Energy the power marketing functions of the Secretary of the Department of the Interior and the Bureau of Reclamation under the Reclamation Act of 1902 (ch. 1093, 32 Stat. 388), as amended and supplemented by subsequent laws, particularly section 9(c) of the Reclamation Project Act of 1939 (43 U.S.C. 485h(c)), and other Acts that specifically apply to the project system involved.

By Delegation Order No. 00-037.00 effective December 6, 2001, the Secretary of Energy delegated: (1) The authority to develop power and transmission rates to the Administrator of the Western Area Power Administration (Western); (2) the authority to confirm, approve, and place such rates into effect on an interim basis to the Deputy Secretary of Energy; and (3) the authority to confirm, approve, and place into effect on a final basis, to remand, or to disapprove such rates to the Federal Energy Regulatory Commission (FERC). This rate extension is issued pursuant to the Delegation Order and the DOE rate extension procedures at 10 CFR part 903.23(b).

Background

The existing formula rates, approved under Rate Order No. WAPA-106, were approved for five (5) years and are effective through February 28, 2009. Subsequently, Rate Schedule L-AS3, Regulation and Frequency Response, was revised and approved for five (5) years under Rate Order No. WAPA-118 and is effective through May 31, 2011. Western is not seeking to extend Rate Schedule L-AS3 for Regulation and Frequency Response service as part of this extension.

Discussion

On February 28, 2009, Western's LAP transmission and ancillary services formula rates will expire, with the exception of Regulation and Frequency Response service, which will expire May 31, 2011. Western is proposing to extend the existing LAP transmission and ancillary services formula rates pursuant to 10 CFR part 903.23(b). The existing LAP rate formulae methodologies collect annual revenue sufficient to recover annual expenses (including interest) and capital requirements, thus ensuring repayment of the project within the cost recovery criteria set forth in DOE order RA 6120.2. Western is seeking this extension to provide more time for the evaluation of new rate requirements for transmission and ancillary services mandated under FERC Order 890 and the evaluation of adjustments to the formulae for ancillary services. For these reasons, Western is extending the existing rate formulae for transmission and ancillary services through February 28, 2011.

The process will take several months to complete because of the complex issues Western and its interested parties must address. It will also offer opportunities for public information and comment forums. For these reasons, Western seeks to extend existing Rate Schedules L-NT1, L-FPT1, L-NFPT1, L-AS1, L-AS2, L-AS4, L-AS5, L-AS6 and L-AS7. Western did not have a consultation and comment period and did not hold public information and comment forums, in accordance with 10 CFR part 903.23(b).

Order

In view of the above and under the authority delegated to me, I hereby extend for a period effective from March 1, 2009, through February 28, 2011, the existing rate schedules L-NT1, L-FPT1, L-NFPT1, L-AS1, L-AS2, L-AS4, L-AS5, L-AS6 and L-AS7 for LAP transmission and ancillary services, excluding L-AS3 for Regulation and Frequency Response service.

Dated: August 12, 2008.
Jeff Kupfer,
Acting Deputy Secretary.

[FR Doc. E8-19161 Filed 8-18-08; 8:45 am]

BILLING CODE 6450-01-P